DEPARTMENT OF LABOR

Employment and Training Administration

Workforce Investment Act; Native American Employment and Training Council

AGENCY: Employment and Training Administration, U.S. Department of Labor.

ACTION: Notice of meeting.

SUMMARY: Pursuant to Section 10 (a)(2) of the Federal Advisory Committee Act (FACA) (Pub. L. 92-463), as amended, and Section 166 (h)(4) of the Workforce Investment Act (WIA) [29 U.S.C. 2911(h)(4)], notice is hereby given of the next meeting of the Native American Employment and Training Council (Council), as constituted under WIA.

DATES: The meeting will begin at 1:30 p.m. (Eastern Time) on Thursday, April 26, 2012, and continue until 5 p.m. that day. The meeting will reconvene at 9 a.m. on Friday, April 27, 2012, and adjourn at 3 p.m. that day. The period from 2:30 p.m. to 4:30 p.m. on April 26, 2012, will be reserved for participation and presentations by members of the public.

ADDRESSES: The meeting will be held at the Tunica-Biloxi Tribal Museum and Cultural Resources Center, 151 Melacon Drive, Marksville, Louisiana 71351.

SUPPLEMENTARY INFORMATION: The meeting will be open to the public. Members of the public not present may submit a written statement on or before April 18, 2012, to be included in the record of the meeting. Statements are to be submitted to Mrs. Evangeline M. Campbell, Designated Federal Official (DFO), U.S. Department of Labor, 200 Constitution Avenue NW., Room S-4209, Washington, DC 20210. Persons who need special accommodations should contact Mr. Craig Lewis at (202) 693-3384, at least two business days before the meeting. The formal agenda will focus on the following topics: (1) U.S. Department of Labor (DOL), Employment and Training Administration Update; (2) U.S. Department of Labor, Office of Public Engagement—Tribal Consultation Policy (TCP) Update; (3) DOL, Division of Indian and Native American Program Update; (4) Training and Technical Assistance; (5) Council Update; (6) Council Workgroup Reports; and (7) Council Recommendations.

FOR FURTHER INFORMATION CONTACT: Mrs. Evangeline M. Campbell, DFO, Division of Indian and Native American Programs, Employment and Training Administration, U.S. Department of Labor, Room S-4209, 200 Constitution Avenue NW., Washington, DC 20210. Telephone number (202) 693-3737 (VOICE) (this is not a toll-free number).

Signed at Washington, DC, this 4th day of April, 2012.
Jane Oates,
Assistant Secretary, Employment and Training Administration.

[FR Doc. 2012-8725 Filed 4-11-12; 8:45 am]

BILLING CODE 4501-FR-P